DEPARTMENT OF COMMERCE

International Trade Administration

[C-533-884]

Glycine From India: Preliminary Results and Partial Rescission of the Countervailing Duty Administrative Review; 2022

AGENCY: Enforcement and Compliance, International Trade Administration, Department of Commerce.

SUMMARY: The U.S. Department of Commerce (Commerce) preliminarily determines that countervailable subsidies are being provided to Kumar Industries, India (Kumar), a producer and exporter of glycine from India during the period of review (POR) January 1, 2022, through December 31, 2022. Interested parties are invited to comment on these preliminary results.

DATES: Applicable July 5, 2024.

FOR FURTHER INFORMATION CONTACT: Scarlet Jaldin or Amber Hodak AD/CVD Operations, Office VI, Enforcement and Compliance, International Trade Administration, U.S. Department of Commerce, 1401 Constitution Avenue NW, Washington, DC 20230; telephone: (202) 482-4275 or (202) 482-8034, respectively.

SUPPLEMENTARY INFORMATION:

Background

On June 21, 2019, Commerce published the countervailing duty (CVD) order on glycine from India.¹ On August 3, 2023, based on these timely requests for review, in accordance with 19 CFR 351.221(c)(1)(i), Commerce published a notice of initiation of an administrative review the Order.² Commerce partially extended the time period for issuing these preliminary results, in accordance with section 751(a)(3)(A) of the Tariff Act of 1930, as amended (the Act), to June 28, 2024.³

¹ See Glycine from India and the People's Republic of China: Countervailing Duty Orders, 84 FR 29173 (June 21, 2019) (Order).

² See Initiation of Antidumping and Countervailing Duty Administrative Reviews, 88 FR 51271, 51277 (August 3, 2023) (Initiation Notice). GEO requested a review of 31 companies, including Pan Chem Corporation. Pan Chem Corporation was inadvertently omitted from the Initiation Notice. As a result, there was an incorrect total of 30, rather than 31, companies included in the Initiation Notice for this administrative review. As explained below, in these preliminary results of review, Commerce is rescinding the review of many of those companies, including Pan Chem, based on the timely withdrawal of the review request.

³ See Memorandum, “Extension of Deadline for Preliminary Results of Countervailing Duty Administrative Review,” dated January 24, 2024; see also Memorandum, “Extension of Deadline for Preliminary Results of Countervailing Duty Administrative Review,” dated June 3, 2024.

For a complete description of the events that followed the initiation of this review, see the Preliminary Decision Memorandum.⁴ A list of topics discussed in the Preliminary Decision Memorandum is included as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Decision Memorandum for the Preliminary Results of the Administrative Review of the Countervailing Duty Order on Glycine from India; 2022,” dated concurrently with, and hereby adopted by, this notice (Preliminary Decision Memorandum).

Scope of the Order

The merchandise covered by the Order is glycine from India. For a complete description of the scope of the Order, see the Preliminary Decision Memorandum.

Rescission of Administrative Review, in Part

Pursuant to 19 CFR 351.213(d)(1), Commerce will rescind an administrative review, in whole or in part, if the party or parties that requested a review withdraw the request within 90 days of the date of publication of the notice of initiation of the requested review. Between June 28 and 30, 2023, Commerce received timely requests for administrative reviews of 31 producers/exporters from various interested parties, in accordance with section 751(a)(1) of the Act and 19 CFR 351.213(b)(1).⁵ On September 22, 2023, Paras withdrew its request for review of itself.⁶ On October 31, 2023, the petitioner ⁷ timely withdrew its request for administrative review of 30 producers/exporters.⁸ Because the withdrawal letters were timely filed, and no other party requested a review of the companies listed in the withdrawal letters, in accordance with 19 CFR 351.213(d)(1), Commerce is rescinding this review of the Order with respect to the 30 companies listed in Appendix II. For additional information regarding this determination, see the Preliminary Decision Memorandum.

⁵ See Paras Intermediates Private Limited's (Paras) Letter, “Request for Countervailing Duty Administrative Review,” dated June 28, 2023; see also Kumar's Letter, “Request for Administrative Review of Countervailing duty Order,” dated June 29, 2023; GEO Specialty Chemicals, Inc.'s (GEO) Letter, “Request for Administrative Review,” dated June 30, 2023 (GEO Request for Administrative Review); and Memorandum, “Phone Conversation with an Interested Party,” dated July 20, 2023.

⁶ See Paras' Letter, “Withdrawal of Review Request for Countervailing Duty Administrative Review,” dated September 22, 2023 (Paras Withdrawal of Review Request).

⁷ On January 1, 2024, GEO, the former petitioner in this proceeding, filed an amended administrative protective order (APO) application, disclosing that it transferred all its glycine business to Deer Park Glycine, LLC. As a result, Deer Park Glycine, LLC (the petitioner) became the new petitioning party in this administrative review. See Memorandum, “Amended APO Application,” dated January 17, 2024.

⁸ See GEO's Letter, “Partial Withdrawal of Request for Administrative Review,” dated October 31, 2023 (GEO Withdrawal of Review Request).

Methodology

Commerce is conducting this administrative review in accordance with section 751(a)(1)(A) of the Act. For each of the subsidy programs found to be countervailable, we preliminarily determine that there is a subsidy, i.e., a financial contribution by an “authority” that gives rise to a benefit to the recipient, and that the subsidy is specific.⁹ For a full description of the methodology underlying our conclusions, see the accompanying Preliminary Decision Memorandum.

⁹ See sections 771(5)(B) and (D) of the Act regarding financial contribution; section 771(5)(E) of the Act regarding benefit; and section 771(5A) of the Act regarding specificity.

Preliminary Results of Review

As a result of this review, Commerce preliminary determines the following countervailable subsidy rate for the period January 1, 2022, through December 31, 2022:

Company | Subsidy rate (ad valorem percent)
Kumar Industries, India | 2.01

Disclosure and Public Comment

We intend to disclose the calculations performed for these preliminary results to interested parties within five days of the date of publication of this notice in accordance with 19 CFR 351.224(b).

Case briefs or other written documents may be submitted to the Assistant Secretary for Enforcement and Compliance.¹⁰ Pursuant to 19 CFR 351.309(c), interested parties may submit case briefs to Commerce no later than 30 days after the date of publication of this notice. Rebuttal briefs, limited to issues raised in the case briefs, may be filed not later than five days after the date for filing case briefs.¹¹ Interested parties who submit case briefs or rebuttal briefs in this proceeding must submit: (1) table of contents listing each issue; (2) a table of authorities.¹² All briefs must be filed electronically using ACCESS. An electronically filed document must be received successfully in its entirety in ACCESS by 5:00 p.m. Eastern Time on the established deadline.

¹⁰ See 19 CFR 351.309(c)(1)(ii); see also 19 CFR 351.303 for general filing requirements.

¹¹ See 19 CFR 351.309(d); see also Administrative Protective Order, Service and Other Procedures in Antidumping and Countervailing Duty Proceedings, 88 FR 67069, 67077 (September 29, 2023) (APO and Service Procedures).

¹² See 19 CFR 351.309(c)(2) and 351.309(d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹³ Further, we request that interested parties limited their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁴

¹³ We use the term “issue” here to describe an argument that Commerce would normally address in a comment of the Issues and Decision Memorandum.

¹⁴ See APO and Service Procedures.

Pursuant to 19 CFR 351.310(c), interested parties who wish to request a hearing, limited to issues raised in the case and rebuttal briefs, must submit a written request to the Assistant Secretary for Enforcement and Compliance, U.S. Department of Commerce, filed electronically via ACCESS. Hearing requests should contain the party's name, address, and telephone number, the number of participants, and a list of issues to be discussed. Issues raised in the hearing will be limited to those raised in the respective case briefs. An electronically-filed hearing request must be received successfully in its entirety by ACCESS by 5:00 p.m. Eastern Time, within 30 days after the date of publication of this notice. If a request for a hearing is made, parties will be notified of the time and date of the hearing.¹⁵

¹⁵ See 19 CFR 351.310(d).

Assessment Rates

Consistent with section 751(a)(1) of the Act and 19 CFR 351.212(b)(2), upon issuance of the final results, Commerce shall determine, and U.S. Customs and Border Protection (CBP) shall assess, countervailing duties on all appropriate entries covered by this review. Commerce intends to issue assessment instructions to CBP regarding mandatory respondent, Kumar, no earlier than 35 days after the date of publication of the final results of this review in the Federal Register. If a timely summons is filed at the U.S. Court of International Trade, the assessment instructions will direct CBP not to liquidate relevant entries until the time for parties to file a request for a statutory injunction has expired (i.e., within 90 days of publication).

For the companies rescinded from this review, as identified in Appendix II, Commerce will instruct CBP to assess countervailing duties on all appropriate entries at a rate equal to the cash deposit of estimated countervailing duties required at the time of entry, or withdrawal from warehouse, for consumption during period January 1, 2022, through December 31, 2022, in accordance with 19 CFR 351.212(c)(1)(i). For these companies, Commerce intends to issue assessment instructions to CBP no earlier than 35 days after the date of publication of these preliminary results of review in the Federal Register.

Cash Deposit Requirements

Pursuant to section 751(a)(1) of the Act, upon publication of the final results, Commerce intends to instruct CBP to collect cash deposits of estimated countervailing duties for each of the companies listed above on shipments of subject merchandise entered, or withdrawn from warehouse, for consumption on or after the date of publication of the final results of this administrative review, except where the rate calculated in the final results is zero or de minimis. For all non-reviewed firms, we will instruct CBP to continue to collect cash deposits of estimated countervailing duties at the all-others rate or the most recent company-specific rate applicable to the company, as appropriate. These cash deposit instructions, when imposed, shall remain in effect until further notice.

Final Results

Unless the deadline is extended pursuant to section 751(a)(3)(A) of the Act and 19 CFR 351.213(h)(2), Commerce intends to issue the final results of this administrative review, including the results of its analysis of issues by the parties in any written briefs, no later than 120 days after the date of publication of these preliminary results.

Notification to Interested Parties

These preliminary results are being issued and published in accordance with sections 751(a)(1) and 777(i)(1) of the Act, and 19 CFR 351.213 and 351.221(b)(4).

Dated: June 28, 2024.
Ryan Majerus,
Deputy Assistant Secretary for Policy and Negotiations performing the non-exclusive functions and duties of the Assistant Secretary for Enforcement and Compliance.

Appendix I

List of Topics Discussed in the Preliminary Decision Memorandum

I. Summary

II. Background

III. Scope of the Order

IV. Rescission of Administrative Review, in Part

V. Subsidies Valuation

VI. Benchmarks and Interest Rates

VII. Analysis of Programs

VIII. Recommendation

Appendix II

Companies for Which Commerce Is Rescinding the Administrative Review

1. Avid Organics Private Limited

2. Paras Intermediates Private Limited

3. Aditya Chemicals

4. JR Corporation

5. Medilane Healthcare Pvt. Ltd.

6. Adwith Nutrichem Private Limited

7. Tarkesh Trading Company

8. Eagle Chemical Works

9. Alkanb Chemicals

10. Shari Pharmachem Pvt., Ltd.

11. Lucas-TVS Limited

12. Medbion Healthcare Private Limited

13. Alka Chemical Industries

14. J.R. International

15. Papchem Lifesciences (OPC) Private Limited

16. Kaaha Overseas

17. Bajaj Healthcare Limited

18. Global Merchants

19. Ladleadd

20. Jain Specialty Fine Chemicals

21. Alchemos Private Limited

22. Kronox Lab Sciences Ltd.

23. Venus International

24. Natural and Essential Oils Private Limited

25. Indiana Chem-Port

26. Pan Chem Corporation

27. Meteoric Biopharmaceuticals

28. Rudraa International

29. Rexisize Rasayan Industries

30. Reliance Rasayan Pvt. Ltd.

[FR Doc. 2024-14766 Filed 7-3-24; 8:45 am]

BILLING CODE 3510-DS-P